DEPARTMENT OF STATE

[Public Notice 7223]

Designation of Jundallah, Also Known as People's Resistance Movement of Iran (PMRI), Also Known as Jonbesh-i Moqavemat-i-Mardom-i Iran, Also Known as Popular Resistance Movement of Iran, Also Known As Soldiers of God, Also Known as Fedayeen-e-Islam, Also Known as Former Jundallah of Iran, Also Known as Jundullah, Also Known as Jondullah, Also Known as Jundollah, Also Known as Jondollah, Also Known as Jondallah, Also Known as Army of God (God's Army), Also Known as the Baloch Peoples Resistance Movement (BPRM), as a Specially Designated Global Terrorist Pursuant to Section 1(b) of Executive Order 13224, as Amended

Acting under the authority of and in accordance with section 1(b) of Executive Order 13224 of September 23, 2001, as amended by Executive Order 13268 of July 2, 2002, and Executive Order 13284 of January 23, 2003, I hereby determine that the organization known as also known as Jundallah, and also known as People's Resistance Movement of Iran (PMRI), also known as Jonbesh-i Moqavemat-i-Mardom-i-Iran, also known as Popular Resistance Movement of Iran, also known as Soldiers of God, also known as Fedayeen-e-Islam, also known as Former Jundallah of Iran, also known as Jundullah, also known as Jondullah, also known as Jundollah, also known as Jondollah, also known as Jondallah, also known as Army of God (God's Army) and also known as the Baloch Peoples Resistance Movement (BPRM) committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: October 21, 2010.
Hillary Rodham Clinton,
Secretary of State, Department of State.

[FR Doc. 2010-27787 Filed 11-3-10; 8:45 am]

BILLING CODE 4710-10-P